ENVIRONMENTAL PROTECTION AGENCY

[OPP-34239; FRL-6804-5]

Technical Briefing on Background, Methods, and Data Proposed for Use in the Organophosphate Pesticide Cumulative Exposure Assessment for Drinking Water; Notice of Public Meeting

AGENCY: Environmental Protection Agency (EPA).

ACTION: Notice.

SUMMARY: EPA is announcing a public technical briefing for October 3, 2001, to further the public discussion on the methods and data proposed for use in the organophosphate pesticide cumulative exposure assessment for drinking water. The briefing will update stakeholders on the probabilistic method proposed for use in the drinking water assessment, the methods for estimating exposures to be used in the probabilistic assessment, and the data required by those methods. The Agency will provide preliminary data on usage and use patterns for stakeholder review.

DATES: The technical briefing will be held on Wednesday, October 3, 2001, from 9 a.m. to 5 p.m. On Thursday, October 4, 2001, from 9 a.m. to noon, EPA and USDA will hold a public meeting of the CARAT Workgroup on Cumulative Risk Assessment/Public Participation Process to discuss issues and questions regarding drinking water as a follow-up to the technical briefing.

ADDRESSES: Both the technical briefing and the follow-up meeting will be held at the National Rural Electric Cooperative Association Conference Center, 4301 Wilson Boulevard, Arlington, VA (across from the Ballston Metro Stop).

FOR FURTHER INFORMATION CONTACT: For general information contact: Terria Northern, Special Review and Reregistration Division (7508C), Office of Pesticide Programs, Environmental Protection Agency, 1200 Pennsylvania Ave., NW., Washington, DC 20460; telephone number: (703) 305-7093; fax number: (703) 308-8005; e-mail address: northern.terria&epa.gov.

For technical information contact: Laura Parsons, Special Review and Reregistration Division (7508C), Office of Pesticide Programs, Environmental Protection Agency, 1200 Pennsylvania Ave., NW., Washington, DC 20460; telephone number: (703) 305-5776; fax number: (703) 308-8005; e-mail address: parsons.laura&epa.gov.

SUPPLEMENTARY INFORMATION:

I. Does this Action Apply to Me?

This action is directed to the public in general. This action may, however, be of interest to persons who are concerned about implementation of the Food Quality Protection Act (FQPA). Passed in 1996, this law strengthens the nation's system for regulating pesticides on food. Participants may include environmental/public interest and consumer groups; industry and trade associations; pesticide user and grower groups; Federal, State, and local governments; food processors; academia; general public; etc. Since others may also be interested, the Agency has not attempted to describe all the specific entities that may be affected by this action. If you have any questions regarding the applicability of this action to a particular entity, consult the technical person listed under FOR FURTHER INFORMATION CONTACT.

II. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

To access information about the cumulative process, go directly to the Home Page for the Office of Pesticides at http://www.epa.gov/pesticides/cumulative.

2. In person. The Agency has established an administrative record for this meeting under docket control number OPP-34239. The administrative record consists of the documents specifically referenced in this notice, any public comments received during an applicable comment period, and other information related to the cumulative risk assessment of organophosphate pesticides. This administrative record includes the documents that are physically located in the docket, as well as the documents that are referenced in those documents. The public version of the administrative record, which includes printed, paper versions of any electronic comments that may be submitted during an applicable comment period, is available for inspection in the Public Information and Records Integrity Branch (PIRIB), Rm.119, Crystal Mall #2, 1921 Jefferson Davis Hwy., Arlington, VA, from 8:30 a.m. to 4 p.m., Monday through Friday, excluding legal holidays. The PIRIB telephone number is (703) 305-5805.

III. How Do I Participate in this Meeting?

This meeting is open to the public. Outside statements by observers are welcome. Oral statements will be limited to 3 to 5 minutes, and it is preferred that only one person per organization present the statement. Any person who wishes to file a written statement may do so before or after the meeting. These statements will become part of the permanent record and will be available for public inspection at the address listed in Unit II.

List of Subjects

Environmental protection, Agriculture, Chemicals, Drinking water, Organophosphate pesticides, Pesticides and pests.

Dated: September 10, 2001.
James Jones,
Director, Office of Pesticide Programs.

[FR Doc. 01-23481 Filed 9-20-01; 8:45 am]

BILLING CODE 6560-50-S